DEPARTMENT OF STATE

[Public Notice: 12010]

U.S. Advisory Commission on Public Diplomacy Notice of Meeting

The U.S. Advisory Commission on Public Diplomacy (ACPD) will hold an in-person public meeting on “The Role of Public Diplomacy in Democracy Promotion” with online (Zoom) access on Thursday, April 13, 2023, from 11:00 a.m. until 12:15 p.m. PT (2:00 p.m. until 3:15 p.m. ET). During the meeting, a distinguished panel of experts, including Larry Diamond, Michael McFaul, and Kathryn Stoner, will discuss how USG public diplomacy programs can most effectively promote and defend democratic values in an increasingly authoritarian and illiberal global context.

This meeting is open to the public, including the media and members and staff of governmental and non-governmental organizations. The event will take place at the Philippines Conference Room, Encina Hall, Third Floor, Central, C330, 616 Jane Stanford Way, Stanford, CA 94305, Center on Democracy, Development and the Rule of Law, Stanford University. Please register for the event at https://cddrl.fsi.stanford.edu/events/role-public-diplomacy-democracy-promotion. Doors will open at 10:30 a.m.

To request reasonable accommodation, please email ACPD Program Assistant Kristy Zamary at ZamaryKK@state.gov. Please send any request for reasonable accommodation no later than Monday, April 3, 2023. Requests received after that date will be considered but might not be possible to fulfill.

Since 1948, the ACPD has been charged with appraising activities intended to understand, inform, and influence foreign publics and to increase the understanding of, and support for, these same activities. The ACPD conducts research that provides honest assessments of public diplomacy efforts, and disseminates findings through reports, white papers, and other publications. It also holds public symposiums that generate informed discussions on public diplomacy issues and events. The Commission reports to the President, Secretary of State, and Congress and is supported by the Office of the Under Secretary of State for Public Diplomacy and Public Affairs.

For more information on the U.S. Advisory Commission on Public Diplomacy, please visit https://www.state.gov/bureaus-offices/under-secretary-for-public-diplomacy-and-public-affairs/united-states-advisory-commission-on-public-diplomacy/, or contact Executive Director Vivian S. Walker at WalkerVS@state.gov or Senior Advisor Deneyse Kirkpatrick at kirkpatrickda2@state.gov.

Authority: 22 U.S.C. 2651a, 22 U.S.C. 1469, 5 U.S.C. Appendix, and 41 CFR 102-3.150.

Kristina K. Zamary,
Department of State.

[FR Doc. 2023-05412 Filed 3-16-23; 8:45 am]

BILLING CODE 4710-45-P